POSTAL SERVICE

Temporary Emergency Committee of the Board of Governors; Sunshine Act Meeting

FEDERAL REGISTER CITATION OF PREVIOUS ANNOUNCEMENT: 83 FR 55761.

PREVIOUSLY ANNOUNCED TIME AND DATE OF THE MEETING: Tuesday, November 13, 2018, at 10:30 a.m.; and Wednesday, November 14, 2018, at 8:30 a.m.

PLACE: Washington, DC, at U.S. Postal Service Headquarters, 475 L'Enfant Plaza SW, in the Benjamin Franklin Room.

STATUS: Tuesday, November 13, 2018, at 10:30 a.m.; Wednesday, November 14, 2018, at 8:30 a.m.—Open.

CHANGES IN THE MEETING: Two agenda items combined and additional information added related to public comment period.

REVISED MATTERS TO BE CONSIDERED:

Tuesday, November 13, 2018, at 10:30 a.m. (Closed)

1. Strategic Issues.

2. Financial Matters.

3. Compensation and Personnel Matters.

4. Executive Session—Discussion of prior agenda items and Board governance.

Wednesday, November 14, 2018, at 8:30 a.m. (Open)

1. Remarks of the Chairman of the Temporary Emergency Committee of the Board.

2. Remarks of the Postmaster General and CEO.

3. Approval of Minutes of Previous Meetings.

4. Committee Reports.

5. FY2018 10K and Financial Statements and Approval of Annual Report and Comprehensive Statement.

6. FY2019 IFP and Financing Resolution.

7. FY2020 Appropriations Request.

8. Quarterly Service Performance Report.

9. Approval of Annual Report and Comprehensive Statement.

10. Draft Agenda for February meetings.

A public comment period will begin immediately following the adjournment of the open session on November 14, 2018. During the public comment period, which shall not exceed 30 minutes, members of the public may comment on any item or subject listed on the agenda for the open session above. Registration of speakers at the public comment period is required. No more than three minutes shall be allotted to each speaker. The time allotted to each speaker will be determined after registration closes. Participation in the public comment period is governed by 39 CFR 232.1(n).

CONTACT PERSON FOR MORE INFORMATION: Acting Secretary of the Board, U.S. Postal Service, 475 L'Enfant Plaza SW, Washington, DC 20260-1000. Telephone: (202) 268-4800.

Michael J. Elston,
Acting Secretary.

[FR Doc. 2018-24835 Filed 11-8-18; 4:15 pm]

BILLING CODE 7710-12-P